DEPARTMENT OF HEALTH AND HUMAN SERVICES

45 CFR Subtitle A

Request for Information (RFI) on Redundant, Overlapping, or Inconsistent Regulations

AGENCY: Immediate Office of the Secretary, Department of Health and Human Services (HHS).

ACTION: Request for information.

SUMMARY: The Immediate Office of the Secretary (IOS) is issuing this Request for Information (RFI) to assist the Department in identifying redundant, overlapping, or inconsistent regulations.

DATES: To be considered, responses and comments must be received electronically, at the email address provided below, no later than 11:59 p.m., Eastern on December 21, 2020, and will be reviewed on a rolling basis during this period.

ADDRESSES: Responses must be submitted electronically, and should be addressed to DuplicativeRegulations@hhs.gov.

SUPPLEMENTARY INFORMATION: The Chief of Staff for the Department has issued a policy statement entitled “Avoiding Duplicative Regulation.” In the policy statement, the Chief of Staff noted that redundant, overlapping, or inconsistent regulations undermine agency and regulatory goals by injecting uncertainty, creating potentially conflicting regulatory regimes, and increasing transaction costs with no discernible benefit to the public. The policy statement also placed new requirements on HHS agencies to avoid duplicative regulation. This Request for Information seeks input from the public on how HHS may improve its regulations, to include regulations issued by any HHS office or agency. HHS plans to use comments from the public to improve existing regulations, and eliminate unnecessary or duplicative regulations through future exercise of rulemaking authority. Specifically, responders may address one or more of the topics below:

1. Any HHS regulations that are redundant with other HHS regulations, and how HHS could best eliminate such redundancies.

2. Any HHS regulations that are inconsistent with other HHS regulations, and how HHS could best resolve any inconsistencies.

3. Any HHS regulations that overlap with federal regulation issued by another HHS office or agency in a manner that creates confusion or uncertainty, and how HHS could best address potential problems caused by such overlapping HHS regulations.

4. Challenges faced by you, your company or others when trying to comply with redundant, overlapping, or inconsistent HHS regulations and the impact or result of facing such challenges.

Collection of Information Requirements: This document does not impose information collection requirements, that is, reporting, recordkeeping or third-party disclosure requirements. However, this document does contain a general solicitation of comments in the form of a request for information. In accordance with implementing regulations of the Paperwork Reduction Act of 1995 (PRA), specifically 5 CFR 1320.3(h)(4), this general solicitation is exempt from the PRA. Facts or opinions submitted in response to general solicitations of comments from the public, published in the Federal Register or other publications, regardless of the form or format thereof, provided that no person is required to supply specific information pertaining to the commenter other than that necessary for self-identification, as a condition of the agency's full consideration, are not generally considered information collections and therefore not subject to the PRA.

Brian Harrison,
Chief of Staff, Department of Health and Human Services.

[FR Doc. 2020-26022 Filed 11-24-20; 8:45 am]

BILLING CODE 4150-03-P